DEPARTMENT OF THE INTERIOR

Bureau of Land Management

[LLAK963000-L14300000-ET-P: F-81469, F-81490]

Public Land Order No. 7760; Extension of Public Land Order No. 6839; Alaska

AGENCY: Bureau of Land Management, Interior.

ACTION: Public Land Order.

SUMMARY: This order extends the withdrawal created by Public Land Order No. 6839, which modified Public Land Order No. 2344, as amended, for a 20-year period until April 1, 2031. This extension is necessary to allow the continued protection of the Barrow Base Line Observatory (formerly known as the Barrow Geophysical Monitoring for Climatic Change Observatory) and the Barrow Magnetic Observatory (formerly known as the Barrow Geomagnetic Observatory). This order also provides the official surveyed land description of the areas withdrawn by Public Land Order No. 6839.

DATES: Effective Date: April 2, 2011.

FOR FURTHER INFORMATION CONTACT: Robert L. Lloyd, BLM Alaska State Office, 222 West Seventh Avenue, #13, Anchorage, Alaska 99513-7504.

SUPPLEMENTARY INFORMATION: The National Oceanic and Atmospheric Administration and the U.S. Geological Survey requested the extension for the continued protection of the facilities and uninterrupted performance of their missions at the Barrow Base Line Observatory and the Barrow Magnetic Observatory, respectively. The land continues to be used for the purpose for which it was withdrawn by both agencies. The withdrawal extended by this order will expire on April 1, 2031, unless, as a result of a review conducted prior to the expiration date pursuant to Section 204(f) of the Federal Land Policy and Management Act of 1976, 43 U.S.C. 1714(f), the Secretary determines that the withdrawal shall be further extended. It has been determined that this action is not expected to have any significant effect on subsistence uses and needs pursuant to Section 810 of the Alaska National Interest Lands Conservation Act (16 U.S.C. 3120).

Order

By virtue of the authority vested in the Secretary of the Interior by Section 204 of the Federal Land Policy and Management Act of 1976, 43 U.S.C. 1714, it is ordered as follows:

1. Public Land Order No. 6839 (56 FR 13413 (1991)), which modified Public Land Order No. 2344 (26 FR 3701 (1961)), transferred jurisdiction of approximately 216 acres of public land to the National Oceanic and Atmospheric Administration and the United States Geological Survey. This land had been withdrawn from all forms of appropriation under the public land laws, including the mining and mineral leasing laws, but not disposal of materials under the Act of July 31, 1947, 30 U.S.C. 601-604, as amended. The National Oceanic and Atmospheric Administration facility encumbers 171 acres for the Barrow Base Line Observatory. The United States Geological Survey facility encumbers 45 acres for the Barrow Magnetic Observatory. The withdrawal for both facilities is hereby extended until April 1, 2031.

2. The plat of dependent resurvey, U.S. Survey No. 5253, officially filed in the Alaska State Office, Bureau of Land Management, Anchorage, Alaska, on July 14, 2010, establishes lots 13, 14, 15, and 16 in T. 23 N., R. 18 W., Umiat Meridian containing 215.69 acres, to replace the land described in Paragraphs 1(a) and (b) and 2 of Public Land Order No. 6839 (56 FR 13413 (1991)).

Authority: 43 CFR 2310.4.

Dated: March 23, 2011.
Wilma A. Lewis,
Assistant Secretary—Land and Minerals Management.

[FR Doc. 2011-7725 Filed 3-31-11; 8:45 am]

BILLING CODE 3510-KD-P